DEPARTMENT OF THE INTERIOR

Bureau of Land Management

[19X LLNMA01400 L12320000.AL0000 LVRDNM030000]

Notice of Closure, Kasha-Katuwe Tent Rocks National Monument

AGENCY: Bureau of Land Management, Interior.

ACTION: Notice of temporary closure.

SUMMARY: Notice is hereby given that under the authority of the Federal Land Policy and Management Act of 1976, as amended (FLPMA), the Kasha-Katuwe Tent Rocks Resource Management Plan (RMP), Presidential Proclamation 7394, and other authorities, the Kasha-Katuwe Tent Rocks National Monument (Monument) will be temporarily closed to the public for fifteen days each year, to allow for Pueblo de Cochiti cultural observances and routine BLM maintenance.

DATES: The temporary closure will be in effect immediately. The closure will remain in effect for 24 months upon publication in the Federal Register. The temporary closure dates are as follows: New Year's Day (January 1); January 6; Friday before Easter; Saturday before Easter; Easter Sunday; Monday after Easter Sunday; May 3; July 13; July 14; July 25; November 1; Thanksgiving Day; Christmas Eve; Christmas Day; and New Year's Eve. These temporary closures are compliant with the Monument RMP and Presidential Proclamation 7394.

FOR FURTHER INFORMATION CONTACT: Mark Matthews, acting District Manager, Bureau of Land Management Albuquerque District Office, 100 Sun Avenue NE, Suite 330, Pan American Building, Albuquerque, New Mexico 87109; 505-761-8700.

SUPPLEMENTARY INFORMATION: The BLM will post temporary closure signs a week prior to a closure at the main entry to the Monument. In addition, a temporary closure notice with all applicable dates will be posted on the BLM website: https://www.blm.gov/visit/kktr.

Presidential Proclamation 7394 designated the Monument on January 17, 2001, to provide opportunities for visitors to observe, study, and experience the geologic processes and cultural and biological objects of interest found in the area, as well as to protect these resources.

Closure: During the temporary closure dates listed above, public access is prohibited.

Exceptions: The temporary closure order does not apply to members of the Pueblo de Cochiti participating in or observing religious and/or cultural practices; or persons performing authorized BLM planning, administrative, maintenance, and/or emergency or law enforcement activities.

Penalties: Any person who violates this temporary closure or these restrictions may be tried before a United States Magistrate and fined in accordance with 18 U.S.C. 3571, imprisoned no more than 12 months under 43 U.S.C. 1733(a) and 43 CFR 8360.07, or both. In accordance with 43 CFR 8365.17, state or local officials may also impose penalties for violations of New Mexico law.

During these closure dates only BLM planning, administrative, and maintenance activities will be authorized, and no public access will be granted.

(Authority: FLPMA, the Kasha-Katuwe Tent Rocks RMP, Presidential Proclamation 7394, 43 CFR 8364.1, and 43 U.S.C. 1701 et seq.)

Mark Matthews,
Acting District Manager, Albuquerque District.

[FR Doc. 2020-06399 Filed 3-26-20; 8:45 am]

BILLING CODE 4310-FB-P